OFFICE OF THE UNITED STATES TRADE REPRESENTATIVE

Generalized System of Preferences (GSP); Schedule of Hearings and Deadlines for Submitting Comments on Petitions for the 2000 GSP Country Practices Review and Announcement of Termination of the Worker Rights Review of Swaziland and the Intellectual Property Rights Review of Moldova

AGENCY: Office of the United States Trade Representative (USTR).

ACTION: Notice.

SUMMARY: The purpose of this notice is to set forth the timetable for hearings and public comments on petitions requesting modifications in the status of GSP beneficiary countries in regard to their practices, as specified in 15 CFR 2007.0(a) and (b). In addition, the notice announces the termination of the worker rights review of Swaziland and the intellectual property rights review of Moldova. The reviews have been concluded since the two countries have brought their laws and practices into conformity with GSP statutory requirements.

FOR FURTHER INFORMATION CONTACT: GSP Subcommittee, Office of the United States Trade Representative, 600 17th Street, NW, Room 518, Washington, DC 20508 (Tel. 202/395-6971). Public versions of all documents relating to this review are available for public inspection by appointment in the USTR public reading room between 9:30-12 a.m. and 1-4 p.m. (Tel. 202/395-6186).

SUPPLEMENTARY INFORMATION: The GSP program is authorized pursuant to Title V of the Trade Act of 1974, as amended (“the Trade Act”) (19 U.S.C. 2461 et seq.). The GSP program grants duty-free treatment to designated eligible articles that are imported from designated beneficiary developing countries. USTR has received a number of petitions requesting that certain practices in certain beneficiary developing countries be reviewed to determine whether such countries are in compliance with the eligibility criteria set forth in sections 502(b) and 502(c) of the Trade Act (19 U.S.C. 2462(b) and 2462(c)).

Petitions Accepted for Review Regarding Country Practices

Pursuant to 15 CFR 2007.0(b), the Trade Policy Staff Committee (TPSC) has accepted petitions to review the GSP status of Brazil, Pakistan, and Russia. The petitions involving Brazil and Russia were submitted by the International Intellectual Property Alliance and that involving Pakistan by the American Textile Manufacturers Institute. A decision on a petition relating to internationally recognized workers' rights in Peru has been deferred, and we will continue to closely monitor and assess the Government of Peru's workers' right practices over the next several months.

Any modifications to the list of beneficiary developing countries for purposes of the GSP program resulting from the Country Practices Review will take effect on such date as will be notified in a future Federal Register notice.

It also should be noted that public comment on the workers' rights review of Guatemala, initiated by the U.S. Trade Representative, may be accommodated in the process described below.

A. Opportunities for Public Comment

The GSP Subcommittee of the TPSC invites comments in support of, or in opposition to, any of the petitions that have been accepted for review by the TPSC. Submissions should comply with 15 CFR Part 2007, including sections 2007.0, and 2007.1. All submissions should identify the subject article(s) in terms of the current Harmonized Tariff Schedule of the United States (“HTS”) nomenclature.

Any comments should be accompanied by fourteen (14) copies, and submitted, in English, to the Chairman of the GSP Subcommittee of the Trade Policy Staff Committee, 600 17th Street, NW, Room 518, Washington, DC 20508. Information submitted will be subject to public inspection by appointment with the staff of the USTR public reading room, except for information submitted in confidence pursuant to 15 CFR 2007.7. If the document contains business confidential information, an original and fourteen (14) copies of a public version of the submission along with an original and fourteen (14) copies of the confidential version must be submitted. In addition, any document containing confidential information should be clearly marked “business confidential” at the top and bottom of each page of the document. The public version should also be clearly marked at the top and bottom of every page (either “public version” or “nonconfidential”). Comments should be submitted no later than 5 p.m. on February 5, 2001.

B. Notice of Public Hearings

Hearings will be held on March 9, 2001 beginning at 10 a.m. at the Office of the U.S. Trade Representatives, 1724 F Street, NW., Washington, DC. The hearings will be open to the public and a transcript of the hearings will be made available for public inspection or can be purchased from the reporting company. No electronic media coverage will be allowed.

All interested parties wishing to present oral testimony at the hearings must submit the name, address, and telephone number of the witness(es) representing their organization to the Chairman of the GSP Subcommittee. Such requests to present oral testimony at the public hearings should be accompanied by fourteen (14) copies, in English, of a written brief or statement, and should be received by 5:00 p.m. on February 23, 2001. Oral testimony before the GSP Subcommittee will be limited to five minute presentations that summarize or supplement information contained in the briefs or statements submitted for the record. Post-hearing and rebuttal briefs or statements should conform to the regulations cited above and be submitted in fourteen (14) copies, in English, no later than 5:00 p.m. on April 6, 2001. Interested persons not wishing to appear at the public hearings may also submit pre-hearing written briefs or statements by 5:00 p.m. on February 23, 2001 and post-hearing and rebuttal written briefs or statements by April 6, 2001.

Jon Rosenbaum,
Assistant U.S. Trade Representative.

[FR Doc. 01-759 Filed 1-9-01; 8:45 am]

BILLING CODE 3190-01-M